DEPARTMENT OF TRANSPORTATION

Federal Aviation Administration

Agency Information Collection Activities: Requests for Comments; Clearance of Renewed Approval of Information Collection: Aviation Insurance

AGENCY: Federal Aviation Administration (FAA), DOT.

ACTION: Notice and request for comments.

SUMMARY: In accordance with the Paperwork Reduction Act of 1995, FAA invites public comments about our intention to request the Office of Management and Budget (OMB) approval to renew an information collection. The collection involves obtaining basic information from new aviation insurance applicants about eligible aviation insurance applicants needed to establish a legally binding, non-premium insurance policy with the FAA, as requested by another Federal agency, such as the applicants name and address. The information collected will be used to determine whether applicants are eligible for Chapter 443 insurance and the amount of coverage necessary; and to populate non-premium insurance policies with the legal name and address of the applicant.

DATES: Written comments should be submitted by January 8, 2018.

ADDRESSES: Send comments to the FAA at the following address: Barbara Hall, Federal Aviation Administration, ASP-110, 10101 Hillwood Parkway, Fort Worth, TX 76177.

FOR FURTHER INFORMATION CONTACT: Barbara Hall by email at: Barbara.L.Hall@faa.gov; phone: 940-594-5913.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0514.

Title: Aviation Insurance.

Form Numbers: 2120-0514.

Type of Review: Renewal of an information collection.

Background: Title 49 U.S.C. 44305 authorizes the Administrator of the Federal Aviation Administration, acting pursuant to a delegation of authority from the Secretary of Transportation, to provide aviation insurance at the request of another Federal agency, without premium, provided that the head of the Federal agency agrees to indemnify the FAA from loss.

The FAA Non-Premium Aviation War Risk Insurance Program offers war risk coverage, without premium, to air carriers at the request of DoD and other Federal agencies. DoD and other Federal agencies rely on the FAA to provide aviation war risk insurance to contracted air carriers supporting mission objectives and operations that is not available commercially on reasonable terms and conditions. Air carriers never insured under the FAA Non-Premium War Risk Insurance Program must submit an application before the FAA can provide coverage.

Respondents: FAA estimates only one air carrier will be required to apply annually.

Frequency: One time only.

Estimated Average Burden per Response: 4 hours.

Estimated Total Annual Burden: 4 hours.

Issued in Fort Worth, TX, on November 2, 2017.
Barbara L. Hall,
FAA Information Collection Clearance Officer, Performance, Policy, and Records Management Branch, ASP-110.

[FR Doc. 2017-24331 Filed 11-7-17; 8:45 am]

BILLING CODE 4910-13-P